INTERNATIONAL TRADE COMMISSION

[Investigation No. 332-556]

Generalized System of Preferences: Possible Modifications, 2015 Review

AGENCY: United States International Trade Commission.

ACTION: Change in scope of investigation.

SUMMARY: Following receipt of a letter on behalf of the United States Trade Representative (USTR) dated February 16, 2016, advising that several petitioners have withdrawn requests for waivers of the competitive need limitation under the Generalized System of Preferences (GSP) program and that USTR accordingly was withdrawing its request for advice regarding such petitions, the U.S. International Trade Commission (Commission) has amended the scope of its investigation and will not provide advice regarding the withdrawn petitions.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at http://edis.usitc.gov.

FOR FURTHER INFORMATION CONTACT: Information specific to this investigation may be obtained from Mahnaz Khan, Project Leader, Office of Industries (202-205-2046 or mahnaz.khan@usitc.gov), Jessica Pugliese, Deputy Project Leader, Office of Industries (202-205-3064 or jessica.pugliese@usitc.gov), or Cynthia Foreso, Technical Advisor, Office of Industries (202-205-3348 or cynthia.foreso@usitc.gov). For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Web site (http://www.usitc.gov). Persons with mobility impairments who will need special assistance in gaining access to the Commission should contact the Office of the Secretary at 202-205-2000.

SUPPLEMENTARY INFORMATION: Background: The February 16, 2016, letter from USTR advised the Commission that several petitioners have withdrawn requests for waivers of the competitive need limitation (CNL) under the GSP program, and that in view of the withdrawals USTR is withdrawing its request for Commission advice as to whether any industry in the United States is likely to be adversely affected by the waiver of the CNLs, whether like or directly competitive products were being produced in the United States on January 1, 1995, and what would be the probable economic effect on total U.S. imports, as well as on consumers, of the subject CNL waivers. The letter asked that the Commission continue with its analysis of all other petitions cited in the December 30, 2015 and January 12, 2016 letters from Ambassador Michael Froman.

As a result, the Commission is terminating the portion of its investigation that concerns the waivers that are the subject of the withdrawn petitions and will not provide advice regarding them. The withdrawn petitions concern the following articles, HTS subheadings, countries, and petitioners:

HTS subheading | Brief description | Country | Petitioner
1509.10.40 | Virgin olive oil and its fractions, whether or not refined, not chemically modified, weighing with the immediate container 18 kg or over | Tunisia | Government of Tunisia.
2804.29.00 | Rare gases, other than argon | Ukraine | Government of Ukraine.
4202.92.04 | Insulated beverage bag w/outer surface textiles, interior only flexible plastic container storing/dispensing beverage thru flexible tubing | Philippines | Camelbak Products.
6911.10.37 | Porcelain or china (o/than bone china) household table & kitchenware in sets in which aggregate val. of arts./US not 6 (b) o/$56 n/o $200 | Indonesia | Lenox Corporation.

In response to the USTR's letter of December 30, 2015, the Commission published its notice of institution of this investigation and the scheduling of a public hearing in connection therewith in the Federal Register on January 19, 2016 (81 FR 2904). As stated in that notice, the public hearing in this investigation (concerning the remaining articles) was held on February 24, 2016. In response to the USTR's letter of January 12, 2016, the Commission published a notice in the Federal Register on January 22, 2016 (81 FR 3819) to expand the scope of the investigation to provide probable economic effect advice with regard to certain handbags and travel goods products covered by five additional HTS statistical reporting numbers.

The hearing date and deadlines for filing pre-hearing and post-hearing briefs and all other written submissions in this investigation remain the same as previously announced, as does the information relating to the filing of those documents. As previously announced, the Commission expects to transmit its report in this investigation to the USTR by April 28, 2016.

By order of the Commission.
Issued: February 26, 2016.
William R. Bishop,
Supervisory Hearings and Information Officer.

[FR Doc. 2016-04649 Filed 3-2-16; 8:45 am]

BILLING CODE 7020-02-P